DEPARTMENT OF ENERGY

Federal Energy Regulatory Commission

[Docket No. CP18-46-000]

Notice of Schedule for Environmental Review of the Adelphia Gateway Project: Adelphia Gateway, LLC

On January 12, 2018, Adelphia Gateway, LLC (Adelphia) filed an application in Docket No. CP18-46-000 requesting a Certificate of Public Convenience and Necessity pursuant to Section 7(c) of the Natural Gas Act to construct and operate certain natural gas pipeline facilities, as well as acquire and convert an existing oil pipeline (southern segment) and an existing dual-phase oil and natural gas pipeline (northern segment) to natural gas only. On August 31, 2018, Adelphia filed an amendment to the application proposing to increase its proposed capacity on the northern segment, but would not result in any changes to the proposed facilities. The proposed project is located in both Pennsylvania and Delaware and is known as the Adelphia Gateway Project (Project). As amended, the Project would provide about 250 and 350 million standard cubic feet of natural gas per day on the existing 18-inch-diameter and 20-inch-diameter portions of the northern segment, respectively. The Project would also provide 250 million standard cubic feet of natural gas per day on the existing 18-inch-diameter southern segment to the greater Philadelphia industrial region with potential to serve additional markets in the northeast.

On January 23, 2018, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—January 4, 2019

90-day Federal Authorization Decision Deadline—April 4, 2019

If a schedule change becomes necessary, additional notice will be provided so that the relevant agencies are kept informed of the Project's progress.

Project Description

Adelphia Gateway proposes to acquire and convert the above referenced northern and southern segments and four existing meter stations to natural gas only, and construct and operate about 4.7 miles of new 16-inch-diameter natural gas pipeline, five meter stations with eight interconnects, seven blowdown assemblies, two mainline valves, and appurtenant facilities in Delaware, Bucks, Chester, Montgomery, and Northampton Counties, Pennsylvania, and New Castle County, Delaware. Additionally, Adelphia proposes to construct two new 5,625 horsepower compressor stations in Delaware and Bucks Counties, Pennsylvania.

Background

On May 1, 2018, the Commission issued a Notice of Intent to Prepare an Environmental Assessment for the proposed Adelphia Gateway Project, Request for Comments on Environmental Issues, and Notice of Public Scoping Sessions (NOI). The NOI was sent to affected landowners; federal, state, and local government agencies; elected officials; Native American tribes; other interested parties; and local libraries and newspapers. In response to the NOI and during Project scoping, the Commission received comments from the U.S. Environmental Protection Agency, Pennsylvania Department of Transportation, local and state governments, non-governmental organizations, and more than 360 comment letters from residents. The primary issues raised by the commenters relate to safety and health concerns for residents and nearby communities, as well as concerns related to environmental impacts associated with the repurposing of the existing system to transport natural gas and construction of new natural gas infrastructure. Project stakeholders also generally expressed Project concerns about the following:

• Noise, safety, air quality, and visual impacts of the proposed compressor stations;

• effects on local communities, nearby properties, and property rights and values;

• direct harm to local communities, cultural and historical interests, and open space;

• water quality impacts, including erosion and stormwater runoff, and impacts on drinking water supplies;

• contaminated groundwater and soil;

• traffic impacts;

• impacts on tourism; and

• climate change.

All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP18-46), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: October 19, 2018.
Kimberly D. Bose,
Secretary.

[FR Doc. 2018-23322 Filed 10-24-18; 8:45 am]

BILLING CODE 6717-01-P